FEDERAL MARITIME COMMISSION

Ocean Transportation Intermediary License Revocations and Terminations

The Commission gives notice that the following Ocean Transportation Intermediary license has been revoked or terminated for the reason indicated pursuant to section 19 of the Shipping Act of 1984 (46 U.S.C. 40101) effective on the date shown.

License No.: 020234F.

Name: Arrow Worldwide, LLC.

Address: 917 Pacific Avenue, Tacoma, WA, 98402.

Date Revoked: June 20, 2014.

Reason: Failed to maintain a valid bond.

Sandra L. Kusumoto,
Director, Bureau of Certification and Licensing.

[FR Doc. 2014-16475 Filed 7-14-14; 8:45 am]

BILLING CODE 6730-01-P